DEPARTMENT OF TRANSPORTATION

Federal Motor Carrier Safety Administration

49 CFR Part 383

[Docket No. FMCSA-2025-0118]

RIN 2126-AC92

Commercial Driver's License Standards; Requirements and Penalties: Applicability to the Exception for Certain Military Personnel

AGENCY: Federal Motor Carrier Safety Administration (FMCSA), Department of Transportation (DOT).

ACTION: Final rule.

SUMMARY: FMCSA amends the Federal Motor Carrier Safety regulations (FMCSR) to allow dual-status military technicians to qualify for the exception for certain military personnel from commercial driver's license (CDL) standards. Dual-status military technicians are civilian technicians employed by military units to provide day-to-day support such as training, maintenance, and other activities required to support the unit. They are required by statute to maintain membership in one of the Army or Air Force Reserve Components as a condition of their civilian employment.

DATES: Effective March 23, 2026.

Petitions for reconsideration of this final rule must be submitted to the FMCSA Administrator no later than March 23, 2026.

FOR FURTHER INFORMATION CONTACT: Patrick Nemons, Office Director, Office of Safety Programs. FMCSA, 1200 New Jersey Avenue SE, Washington, DC 20590, (202) 366-4986, Patrick.Nemons@dot.gov. If you have questions on viewing or submitting material to the docket, call Dockets Operations at (202) 366-9826.

SUPPLEMENTARY INFORMATION: FMCSA organizes this final rule as follows:

I. Availability of Rulemaking Documents

II. Executive Summary

A. Purpose and Summary of the Regulatory Action

III. Abbreviations

IV. Legal Basis

VI. Discussion of Proposed Rulemaking and Comments

A. Proposed Rulemaking

B. Comments and Responses

C. Final Rule

VI. International Impacts

VII. Section-by-Section Analysis

VIII. Regulatory Analyses

A. E.O. 12866 (Regulatory Planning and Review) and DOT Regulatory Policies and Procedures

B. E.O. 14192 (Unleashing Prosperity Through Deregulation)

C. Congressional Review Act

D. Regulatory Flexibility Act

D. Assistance for Small Entities

F. Unfunded Mandates Reform Act of 1995

G. Paperwork Reduction Act

H. E.O. 13132 (Federalism)

I. Privacy

J. E.O. 13175 (Indian Tribal Governments)

K. National Environmental Policy Act of 1969

I. Availability of Rulemaking Documents

To view any documents mentioned as being available in the docket, go to https://www.regulations.gov/docket/FMCSA-2025-0118/document and choose the document to review. To view comments, click this final rule, then click “Browse Comments.” If you do not have access to the internet, you may view the docket online by visiting Dockets Operations in room W58-213 of the DOT West Building, 1200 New Jersey Avenue SE, Washington, DC 20590-0001, between 9 a.m. and 5 p.m., Monday through Friday, except Federal holidays. To be sure someone is there to help you, please call (202) 366-9317 or (202) 366-9826 before visiting Dockets Operations.

II. Abbreviations

ART Air Reserve Technician

ATA American Trucking Associations

CDL Commercial Driver's License

CE Categorical Exclusion

CFR Code of Federal Regulations

CMV Commercial motor vehicle

CMVSA Commercial Motor Vehicle Safety Act

DOT Department of Transportation

ELDT Entry-Level Driver Training

FMCSA Federal Motor Carrier Safety Administration

FMCSR Federal Motor Carrier Safety Regulations

FR Federal Register

ICR Information Collection Request

NPRM Notice of proposed rulemaking

OMB Office of Management and Budget

OOIDA Owner-Operator Independent Drivers Association

PIA Privacy Impact Assessment

PTA Privacy Threshold Assessment

RFA Regulatory Flexibility Act

UMRA Unfunded Mandates Reform Act of 1995

U.S.C. United States Code

III. Executive Summary

A. Purpose and Summary of the Regulatory Action

On October 22, 2023, FMCSA received a petition from Mr. James D. Welch, an employee of the United States Air Force Reserve Command, asking the Agency to amend section 383.3(c). Mr. Welch asserted in his petition that the current regulation places an unfair burden on career U.S. Air Force Reserve Technicians (ARTs) who are required to wear the military uniform in the same manner as National Guard Military Technicians but are not similarly authorized to utilize the CDL exemption. On March 11, 2024, FMCSA granted Mr. Welch's petition after determining that the petition contained adequate justification to initiate a rulemaking. On May 20, 2025, FMCSA also granted an exemption sought by Mr. Welch for ARTs working under the U.S. Air Force Reserve Command from the requirement to obtain a CDL in order to operate a CMV (90 FR 21540). Subsequently, on May 30, 2025, FMCSA published a notice of proposed rulemaking (NPRM) (90 FR 22896) to amend the regulations to allow dual-status military technicians to qualify for the exception for certain military personnel from CDL standards.

In this final rule, FMCSA is removing the language making the military exception inapplicable to U.S. Reserve Technicians. For the reasons presented in the NPRM, and after reviewing the public comments, FMCSA concludes the existing regulation is outdated. FMCSA therefore amends 49 CFR 383.3(c) to allow dual-status military technicians appointed in accordance with 10 U.S.C. 10216 to be eligible for the military exception contained in the regulation.

IV. Legal Basis

The Administrator of FMCSA is delegated authority under 49 CFR 1.87 to carry out the functions vested in the Secretary of Transportation (the Secretary) by 49 U.S.C. chapters 311, 313, and 315 as they relate to commercial motor vehicle (CMV) operators, programs, and safety. The CDL regulations are based primarily on the broad authority of the Commercial Motor Vehicle Safety Act of 1986 (CMVSA or the 1986 Act) (Title XII of Pub. L. 99-570, 100 Stat. 3207-170 (Oct. 27, 1986)), as amended, codified at 49 U.S.C. chapter 313, which established the CDL program. The authority for FMCSA to require an operator of a CMV to obtain a CDL rests on the authority found in 49 U.S.C. 31302. FMCSA, in accordance with 49 U.S.C. 31311 and 31314, has authority to prescribe procedures and requirements for the States to observe in order to issue CDLs (set forth, generally, in 49 CFR part 384).

Section 12013 of the CMVSA allowed the Federal Highway Administration, FMCSA's predecessor agency, to “waive, in whole or in part, application of any provision of this title or any regulation issued under this title with respect to class of persons or class of commercial motor vehicles if the Secretary determines that such waiver is not contrary to the public interest and does not diminish the safe operation of commercial motor vehicles” (Pub. L. 99-570, Title XII, 100 Stat. 3207-170, 3207-186 (Oct. 27, 1986), codified at 49 U.S.C. app. 2711). Following statutory amendments,¹ the language of the CMVSA's section 12013—that a waiver must not be “contrary to the public interest” and “not diminish the safe operation of commercial motor vehicles”—has been replaced by the standard that a waiver or exemption must “likely achieve a level of safety that is equivalent to, or greater than, the level that would be achieved in the absence of the waiver” (49 U.S.C. 31315(a)) or “absent such exemption” (49 U.S.C. 31315(b)(1)).

¹ When Title 49, United States Code, was recodified in 1994, the waiver authority in 49 U.S.C. app. 2711 was redesignated as 49 U.S.C. 31315 (Pub. L. 103-272, 108 Stat. 745, 1029, July 5, 1994). Subsequently, the Transportation Equity Act for the 21st Century revised 49 U.S.C. 31315 as “Waivers, exemptions, and pilot programs” (Pub. L. 105-178, 112 Stat. 107, 401, June 9, 1998).

This final rule is also consistent with the Motor Carrier Safety Act of 1984 (Title II of Pub. L. 98-554, 98 Stat. 2832 (Oct. 30, 1984)), as amended, codified at 49 U.S.C. 31131, et seq.; and the Motor Carrier Act of 1935 (49 Stat. 543 (Oct. 9, 1935)), as amended, codified at 49 U.S.C. 31502. The 1984 statute granted the Secretary broad authority to issue regulations on commercial motor vehicle safety, including regulations to ensure that “commercial motor vehicles are maintained, equipped, loaded, and operated safely” (49 U.S.C. 31136(a)(1)). This final rule is consistent with the safe operation of CMVs. In accordance with section 31136(a)(2), the amendment finalized in this final rule will not impose any “responsibilities . . . on operators of commercial motor vehicles [that would] impair their ability to operate the vehicles safely.” This final rule does not directly address medical standards for drivers (section 31136(a)(3)) or possible physical effects caused by driving CMVs (section 31136(a)(4)). FMCSA does not anticipate that drivers will be coerced (section 31136(a)(5)) as a result of this final rule because it will simply permit certain military personnel to operate subject to the same requirements as other military personnel currently operate. Under 49 U.S.C. 31315(a), the Secretary is authorized to grant waivers from any regulations prescribed under this section.

V. Discussion of Proposed Rulemaking and Comments

A. Proposed Rulemaking

On May 30, 2025, FMCSA published an NPRM titled “Commercial Driver's License Standards; Requirements and Penalties: Applicability to the Exception for Certain Military Personnel” (90 FR 22896). The NPRM proposed to amend the FMCSRs to allow dual-status military technicians to qualify for the exception for certain military personnel from CDL standards, by removing the phrase “This exception is not applicable to U.S. Reserve technicians,” from 49 CFR 383.3(c). The NPRM stated that removing the phrase pertaining to national guard military technicians would not affect their ability to claim the exception, as it also covers all part-time and full-time National Guard members on active duty; doing so merely indicates that the regulation no longer distinguishes between military technicians who are in the National Guard and those in the Reserves. FMCSA also proposed to add `dual-status military technicians' as defined in 10 U.S.C. 10216, to the list of exempt personnel. The Agency explained that the amendment would explicitly allow dual-status military technicians, regardless of whether they are members of either the Reserves or the National Guard, to qualify for the military exception from the CDL standards. The Agency also stated the rulemaking would remove outdated language, improve clarity for stakeholders, and promote greater efficiency for military units employing dual-status military technicians.

For a full discussion of the history behind the exception under 49 CFR 383.3(c), please see the May 30, 2025, NPRM. (90 FR 22896). FMCSA sought comment on its proposal to amend section 383.3(c) to allow dual-status military technicians to qualify for the exception. FMCSA also sought comment on the number of drivers that would be impacted by this rule each year, whether they would be considered Class A or Class B drivers, and any additional areas of cost savings associated with the exception, as well as any safety impacts.

B. Comments and Responses

FMCSA solicited comments concerning the NPRM for 30 days ending July 29, 2025. Four unique comments were received. Two were from individuals, one was from the Owner-Operator Independent Drivers Association (OOIDA), and one was from the American Trucking Associations (ATA).² All commenters supported the proposed rule.

² The docket reflects two comments from ATA, however, the second is a duplicate of the first.

Michael Ravnitzky described the current regulation as outdated and stated that the proposed amendments would harmonize the treatment of all military personnel operating CMVs. He also estimated that the amendments would yield savings of approximately $1,900 to $3,100 in training costs per technician, allow Reserve Commands to better allocate resources toward mission-critical activities, and improve retention and recruitment. He also stated that safety would not be compromised because these Reservists receive rigorous, specialized training to carry out their duties as CMV operators.

Kyle White stated that he is a Chief Master Sergeant in the Air Force who operated CMVs as part of his duties, and that the ARTs who work for him have the same qualifications and training as he does. He highlighted the difficulty caused by allowing dual-status military technicians to operate CMVs while deployed but not while at their home base. He also estimated the cost of commercial training programs to be about $5,000 to $8,000 per operator for a license and endorsements.

OOIDA stated that the proposal was “an example of commonsense regulatory reform.” ATA commented that the proposal would remove ambiguity regarding who is eligible for the military-CDL exemption found in section 393.3(c), and stated that the individual exemptions FMCSA previously granted for military technicians have not compromised safety.

No commenters addressed the number or classification of drivers impacted by the amendments. Two commenters, identified above, estimated significant cost savings, ranging from $1,900 to $8,000 per driver. Both commenters also expressed that military Reservists, including dual-status military technicians, receive stringent training and that operational safety will not be compromised by allowing them to claim the military exception from the CDL requirements in 49 CFR 383.3.

C. Final Rule

The Agency did not receive any suggestions for modifications or comments that would cause it to reevaluate its proposal during the comment period. This action will benefit America's armed forces without compromising the safety of the nation's roadways. Therefore, FMCSA is finalizing the rule as proposed, without change.

VI. International Impacts

Motor carriers and drivers are subject to the laws and regulations of the countries where they operate, unless an international agreement states otherwise. Drivers and carriers should be aware of the regulatory differences between nations.

VII. Section-by-Section Analysis

This section-by-section analysis describes the changes in numerical order.

Section 383.3 Applicability

In paragraph (c), FMCSA would remove the phrase “and national guard military technicians (civilians who are required to wear military uniforms)” and the sentence “This exception is not applicable to U.S. Reserve technicians.” FMCSA would add the phrase, “dual-status military technicians, as defined in 10 U.S.C. 10216” to the list of exempt personnel.

VIII. Regulatory Analyses

A. Executive Order (E.O.) 12866 (Regulatory Planning and Review) and DOT Regulatory Policies and Procedures

FMCSA has considered the impact of this final rule under E.O. 12866 (58 FR 51735, Oct. 4, 1993), Regulatory Planning and Review, and DOT Order 2100.6B.³ The Office of Information and Regulatory Affairs within the Office of Management and Budget (OMB) determined that this final rule is not a significant regulatory action under section 3(f) of E.O. 12866, and has not reviewed it under that E.O.

³ DOT Order 2100.6B is available at https://www.transportation.gov/regulations/dot-order-21006b-policies-and-procedures-rulemakings.

This final rule removes the language making the military exception inapplicable to U.S. Reserve Technicians. This will allow the exception that already applies to certain military and Reserve personnel who operate CMVs for military purposes to also apply to U.S. Reserve Technicians operating CMVs for military purposes. The petition for rulemaking states that the ART program is experiencing difficulties in hiring and retaining employees and the current exclusion to the exception further exacerbates these concerns. Under the existing regulations, dual-status military technicians operating under the oversight of either the Army Reserve Command or the Air Force Reserve Command (but not those who are members of the Army National Guard or Air Force National Guard) are required to obtain training prior to receiving their CDL, causing an undue funding burden on the ART program. This final rule will result in cost savings for the ART program, and any similar program administered by the Army Reserve Command, by alleviating the need to receive training at a training provider located listed on FMCSA's training provider registry. The final rule requiring entry-level driver training (ELDT) training (81 FR 88732, Dec. 8, 2016) estimated that the tuition cost would range from $1,430 for a Class B license to $2,340 for a Class A license, both in 2014 dollars. Inflating those values to 2024 dollars using the Consumer Price Index for all Urban Consumers, FMCSA anticipates that the avoided training costs for each dual-status military technician driver will range from $1,900 to $3,100. The Reserve Commands may also experience cost savings in the form of reduced fees for CDLs. Commenters agreed with the Agency, stating that the cost savings could range from $1,900 to $8,000 per individual driver. Lacking data on the number of drivers that would no longer be receiving training each year, FMCSA is unable to quantify the total cost savings associated with this rulemaking. FMCSA does not anticipate that this final rule will impact safety. The dual-status military technicians covered by this final rule transport items on an installation with multiple layers of safety requirements along preapproved routes.

B. E.O. 14192 (Unleashing Prosperity Through Deregulation)

E.O. 14192 (90 FR 9065, Jan. 31, 2025), Unleashing Prosperity Through Deregulation, requires that for “each new [E.O. 14192 regulatory action] issued, at least ten prior regulations be identified for elimination.” ⁴

⁴ Executive Office of the President, Executive Order 14192 of January 31, 2025, Unleashing Prosperity Through Deregulation, 90 FR 9065-9067 (Feb. 6, 2025).

Implementation guidance for E.O. 14192 issued by OMB (Memorandum M-25-20, March 26, 2025) defines two different types of E.O. 14192 actions: an E.O. 14192 deregulatory action, and an E.O. 14192 regulatory action.⁵

⁵ Executive Office of the President, Office of Management and Budget, Guidance Implementing Section 3 of Executive Order 14192, Titled “Unleashing Prosperity Through Deregulation,” Memorandum M-25-20 (March 26, 2025).

An E.O. 14192 deregulatory action is defined as “an action that has been finalized and has total costs less than zero.” This final rulemaking is expected to have total costs less than zero as Reserve Command drivers would no longer be required to receive ELDT training or obtain a CDL, and therefore would be considered an E.O. 14192 deregulatory action upon issuance of a final rule.

C. Congressional Review Act

This final rule is not a major rule as defined under the Congressional Review Act (5 U.S.C. 801-808).” ⁶

⁶ A major rule means any rule that OMB finds has resulted in or is likely to result in (a) an annual effect on the economy of $100 million or more; (b) a major increase in costs or prices for consumers, individual industries, geographic regions, Federal, State, or local government agencies; or (c) significant adverse effects on competition, employment, investment, productivity, innovation, or on the ability of United States-based enterprises to compete with foreign-based enterprises in domestic and export markets (5 U.S.C. 804(2)).

D. Regulatory Flexibility Act

The Regulatory Flexibility Act (RFA) (5 U.S.C. 601 et seq.), as amended by the Small Business Regulatory Enforcement Fairness Act of 1996,⁷ requires Federal agencies to consider the effects of the regulatory action on small business and other small entities and to minimize any significant economic impact. The term small entities means small businesses and not-for-profit organizations that are independently owned and operated and are not dominant in their fields, and governmental jurisdictions with populations of less than 50,000 (5 U.S.C. 601(6)). Accordingly, DOT policy requires an analysis of the impact of all regulations on small entities, and mandates that agencies strive to lessen any adverse effects on these businesses. No regulatory flexibility analysis is required, however, if the head of an agency or an appropriate designee certifies that the rule will not have a significant economic impact on a substantial number of small entities.

⁷ Public Law 104-121, 110 Stat. 857 (Mar. 29, 1996).

This rule would impact dual-status military technician drivers and the Army Reserve Command and Air Force Reserve Command, which are part of the U.S. Military. Drivers are not considered small entities because they do not meet the definition of a small entity in section 601 of the RFA. Specifically, drivers are considered neither a small business under section 601(3) of the RFA, nor are they considered a small organization under section 601(4) of the RFA. The U.S. Military is also not considered a small entity because it does not meet the definition of small entity in section 601 of the RFA. Therefore, this final rule would not impact a substantial number of small entities.

This final rule will result in cost savings for the Reserve Commands by eliminating the need to fund ELDT training for dual-status military technician drivers. FMCSA cannot estimate the total cost savings that would result from this final rule but anticipates that it will not be a significant impact. Consequently, I certify that the final rule will not have a significant economic impact on a substantial number of small entities.

E. Assistance for Small Entities

In accordance with section 213(a) of the Small Business Regulatory Enforcement Fairness Act of 1996 (Pub. L. 104-121, 110 Stat. 857), FMCSA wants to assist small entities in understanding this proposed rule so they can better evaluate its effects on themselves and participate in the rulemaking initiative. If the final rule will affect your small business, organization, or governmental jurisdiction and you have questions concerning its provisions or options for compliance, please consult the person listed under FOR FURTHER INFORMATION CONTACT.

Small businesses may send comments on the actions of Federal employees who enforce or otherwise determine compliance with Federal regulations to the Small Business Administration's Small Business and Agriculture Regulatory Enforcement Ombudsman (Office of the National Ombudsman, see https://www.sba.gov/about-sba/oversight-advocacy/office-national-ombudsman) and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

F. Unfunded Mandates Reform Act of 1995

The Unfunded Mandates Reform Act of 1995 (2 U.S.C. 1531-1538) (UMRA) requires Federal agencies to assess the effects of their discretionary regulatory actions. The Act addresses actions that may result in the expenditure by a State, local, or Tribal government, in the aggregate, or by the private sector of $206 million (which is the value equivalent of $100 million in 1995, adjusted for inflation to 2024 levels) or more in any 1 year. Because this final rule will not result in such an expenditure, a written statement is not required.

G. Paperwork Reduction Act

This final rule contains no new information collection requirements under the Paperwork Reduction Act of 1995 (44 U.S.C. 3501-3520). FMCSA will evaluate whether this final rule will impact the currently approved Information Collection “Commercial Driver Licensing and Testing Standards” (OMB Control No. 2126-0011) during that collection's next routine renewal. The current Information Collection Request (ICR) was due to expire on April 30, 2025. On April 16, 2025, FMCSA published a 30-day notice to address the extension of the current ICR (90 FR 16061) and to announce its plan to submit the ICR to OMB for review and approval.

H. E.O. 13132 (Federalism)

A rule has implications for federalism under section 1(a) of E.O. 13132 if it has “substantial direct effects on the States, on the relationship between the national government and the States, or on the distribution of power and responsibilities among the various levels of government.”

FMCSA has determined that this final rule will not have substantial direct costs on or for States, nor would it limit the policymaking discretion of States. Although States will be required to exempt dual-status military technicians operating CMVs for military purposes from CDL requirements, this is a small population of drivers and States are already required to exempt other listed individuals from those requirements. Moreover, States may already consider some dual-status military technicians exempt due to their status as members of Reserve Components, whether in the National Guard, the Army Reserve, or the Air Force Reserve. Therefore, this final rule does not have sufficient federalism implications to warrant the preparation of a Federalism Impact Statement.

I. Privacy

The Consolidated Appropriations Act, 2005,⁸ requires the Agency to assess the privacy impact of a regulation that will affect the privacy of individuals. This final rule will not require the collection of personally identifiable information.

⁸ Public Law 108-447, 118 Stat. 2809, 3268, note following 5 U.S.C. 552a (Dec. 4, 2014).

The Privacy Act (5 U.S.C. 552a) applies only to Federal agencies and any non-Federal agency that receives records contained in a system of records from a Federal agency for use in a matching program.

The E-Government Act of 2002,⁹ requires Federal agencies to conduct a Privacy Impact Analysis (PIA) for new or substantially changed technology that collects, maintains, or disseminates information in an identifiable form. No new or substantially changed technology will collect, maintain, or disseminate information as a result of this final rule. Accordingly, FMCSA has not conducted a PIA.

⁹ Public Law 107-347, sec. 208, 116 Stat. 2899, 2921 (Dec. 17, 2002).

In addition, the Agency submitted a Privacy Threshold Assessment (PTA) to evaluate the risks and effects the rulemaking may have on collecting, storing, and sharing personally identifiable information. The PTA was adjudicated by DOT's Chief Privacy Officer on August 28, 2025.

J. E.O. 13175 (Indian Tribal Governments)

This final rule does not have Tribal implications under E.O. 13175, Consultation and Coordination with Indian Tribal Governments, because it does not have a substantial direct effect on one or more Indian Tribes, on the relationship between the Federal Government and Indian Tribes, or on the distribution of power and responsibilities between the Federal Government and Indian Tribes.

K. National Environmental Policy Act of 1969

FMCSA analyzed this final rule pursuant to the National Environmental Policy Act of 1969 (42 U.S.C. 4321 et seq.). The Agency believes this final rule will not have a reasonably foreseeable significant effect on the quality of the human environment. This action falls under a published categorical exclusion (CE) and is therefore excluded from further analysis and documentation in an environmental assessment or environmental impact statement under DOT Order 5610.1D,¹⁰ Subpart B, Subsection (e). The CE in paragraph (e)(6)(z) covers regulations establishing the minimum qualifications for persons who drive CMVs as, for, or on behalf of motor carriers; and the minimum duties of motor carriers with respect to the qualifications of their drivers.

¹⁰ Available at https://www.transportation.gov/mission/dots-procedures-considering-environmental-impacts.

List of Subjects in 49 CFR Part 383

Administrative practice and procedure, Alcohol abuse, Drug abuse, Drug testing, Highway safety, Motor carriers, Penalties, Safety, Transportation.

Accordingly, FMCSA amends 49 CFR part 383 to read as follows:

PART 383—COMMERCIAL DRIVER'S LICENSE STANDARDS; REQUIREMENTS AND PENALTIES

1. The authority citation for part 383 continues to read as follows:

Authority: 49 U.S.C. 521, 31136, 31301 et seq., and 31502; secs. 214 and 215 of Pub. L. 106-159, 113 Stat. 1748, 1766, 1767; sec. 1012(b) of Pub. L. 107-56, 115 Stat. 272, 297, sec. 4140 of Pub. L. 109-59, 119 Stat. 1144, 1746; sec. 32934 of Pub. L. 112-141, 126 Stat. 405, 830; sec. 23019 of Pub. L. 117-58, 135 Stat. 429, 777; and 49 CFR 1.87.

2. Amend § 383.3 by revising paragraph (c) to read as follows:

§ 383.3 Applicability.

* * * * *

(c) Exception for certain military drivers. Each State must exempt from the requirements of this part individuals who operate CMVs for military purposes. This exception is applicable to active duty military personnel; members of the military reserves; members of the national guard on active duty, including personnel on full-time national guard duty and personnel on part-time national guard training; dual-status military technicians, as defined in 10 U.S.C. 10216; and active duty U.S. Coast Guard personnel.

* * * * *

Issued under authority delegated in 49 CFR 1.87.
Derek Barrs,
Administrator.

[FR Doc. 2026-03263 Filed 2-18-26; 8:45 am]

BILLING CODE 4910-EX-P